MERIT SYSTEMS PROTECTION BOARD

Special Panel; Oral Argument; Reynaldo Alvara v. Department of Homeland Security

AGENCY: Merit Systems Protection Board and Equal Employment Opportunity Commission.

ACTION: Notice.

SUMMARY: Notice is hereby given of the oral argument in the case of Reynaldo Alvara v. Department of Homeland Security (MSPB Docket No. DA-0752-10-0223-E-1 and EEOC Petition No. 0320110053) before the Special Panel comprised of Dennis P. Walsh, Chairman, Special Panel; Anne M. Wagner, Vice Chairman, Merit Systems Protection Board; and Chai R. Feldblum, Commissioner, Equal Employment Opportunity Commission. See 5 U.S.C. 7702(d) and 5 CFR 1201.171.

DATES: Monday, September 8, 2014, at 2 p.m.

ADDRESSES: Margaret A. Browning Hearing Room at the National Labor Relations Board headquarters, 1099 14th Street NW., Washington, DC 20005.

FOR FURTHER INFORMATION CONTACT: William D. Spencer, Clerk of the Board, Merit Systems Protection Board, 1615 M Street NW., Washington, DC 20419; phone: 202-653-7200; fax: 202-653-7130; email: mspb@mspb.gov.

SUPPLEMENTARY INFORMATION: This is an open meeting of the Special Panel. The public may attend this oral argument for the sole purpose of observation. To facilitate entry to the National Labor Relations Board headquarters, persons who wish to attend should arrive 30 minutes prior to the start of the proceeding and must have photo identification for security screening. Persons with disabilities who require reasonable accommodation should direct the request to the MSPB Director of Equal Employment Opportunity at 202-254-4405 or V/TDD 1-800-877-8339 (Federal Relay Service). All such requests should be as soon as possible prior to September 8. A recording and transcript of the oral argument will be made available on MSPB's Web site.

William D. Spencer,
Clerk of the Board.

[FR Doc. 2014-21237 Filed 9-3-14; 4:15 pm]

BILLING CODE 7400-01-P